SPECIAL INSPECTOR GENERAL FOR AFGHANISTAN RECONSTRUCTION

Office of Privacy, Records, and Disclosure; Privacy Act of 1974, as Amended

AGENCY: Special Inspector General for Afghanistan Reconstruction.

ACTION: Notice of Proposed Privacy Act Systems of Records.

SUMMARY: In accordance with the Privacy Act of 1974, as amended, the Special Inspector General for Afghanistan Reconstruction (SIGAR) gives notice of the establishment of seven Privacy Act systems of records with exemptions.

DATES: Comments must be received no later than July 27, 2012. The new system of records will be effective August 27, 2012 unless SIGAR receives comments that would result in a contrary determination.

ADDRESSES: Comments should be sent to Hugo Teufel, Acting General Counsel, Special Inspector General for Afghanistan Reconstruction, 2530 Crystal Drive, Arlington, VA 22202-3934. Comments will be made available for inspection up written request. SIGAR will make such comments available for public inspection in the Office of Privacy, Records, and Disclosure, 9th Floor, 1550 Crystal Drive, Arlington, VA 22202, on official business days between the hours of 9 a.m. and 5 p.m. Eastern time. You can make an appointment to inspect comments by telephoning (703) 545-6000. All comments, including attachments and other supporting materials, received are part of the public record and subject to public disclosure. You should submit only information that you wish to make available publicly.

FOR FURTHER INFORMATION CONTACT: Kate Gastner, Public Information Manager, Special Inspector General for Afghanistan Reconstruction, 2530 Crystal Drive, Arlington, VA 22202-3934, (703) 545-5993.

SUPPLEMENTARY INFORMATION: On January 28, 2008, the President signed into law the National Defense Authorization Act for Fiscal Year 2008 (Pub. L. 110-181), which created the Special Inspector General for Afghanistan Reconstruction (SIGAR). SIGAR is responsible for coordinating and conducting audits and investigations to promote efficiency and effectiveness of reconstruction programs, and to detect and prevent waste, fraud, and abuse of taxpayers' dollars. Under 5 U.S.C. § 301, heads of Executive or military departments may prescribe regulations governing the conduct of its employees and the custody, use, and preservation of the department's records, papers, and property. To facilitate SIGAR's audits, investigations, and other operations, it plans to create the following systems of records:

SIGAR-04 Freedom of Information Act and Privacy Act Records;

SIGAR-05 Audit Records;

SIGAR-06 Correspondence Records;

SIGAR-07 Hotline Records;

SIGAR-08 Investigation Records;

SIGAR-09 Legal Records;

SIGAR-10 Legislative Inquiries and Correspondence.

In the notice of proposed rulemaking, amending 5 CFR Part 9301, which is published separately in the Federal Register, SIGAR is proposing to exempt records maintained in several systems from certain of the Privacy Act's requirements pursuant to 5 U.S.C. 552a(j)(2) and (k)(2).

The Report of the a new system of records, as required by 5 U.S.C. 552a(r) of the Privacy Act, has been submitted to the Committee on Oversight and Government Reform of the House of Representatives, the Committee on Homeland Security and Governmental Affairs of the Senate, and the Office of Management and Budget, pursuant to Appendix I to OMB Circular A-130, “Federal Agency Responsibilities for Maintaining Records About Individuals,” dated November 30, 2000.

Sections 552a(e)(4) and (11) of title 5, United States Code, provide that an agency public a notice of the establishment or revision of a record system which affords the public a 30-day period in which to submit comments. To meet this requirement, descriptions of the three new systems of records are published in their entirety below.

Dated: June 19, 2012.
Steven J. Trent,
Acting Inspector General.

SIGAR-04

System name:

Freedom of Information Act and Privacy Act Records.

System location:

Office of the Special Inspector General for Afghanistan Reconstruction (SIGAR), 1550 Crystal Drive, 9th Floor, Arlington, VA 22202-4135.

Categories of individuals covered by the system:

Individuals requesting copies of records from SIGAR under the provisions of the FOIA and the PA; individuals who submit FOIA and PA requests, or FOIA/PA administrative appeals; individuals whose requests and/or records have been referred to the SIGAR by other agencies; and in some instances includes attorneys representing individuals submitting such requests and appeals, or individuals who are the subjects of such requests and appeals.

Categories of records in the system:

Name, address, and telephone number; description or identification of records requested, request control number, furnished and/or denied; FOIA and PA division employee name assigned responsibility for processing request; dates of request and actions; interim and final actions taken on request; persons or offices assigned actions on requests; copy of records requested, furnished and/or denied; fee data, including payment delinquencies; final determinations of appeals; name/title of officials responsible for denial of records; and case notes.

Authority for maintenance of the system:

Pub. L. No. 110-181, Section 1229, National Defense Authorization Act for Fiscal Year 2008; 5 U.S.C. Appendix 3, Inspector General Act of 1978, as amended; 5 U.S.C. 552, Public information; agency rules, opinions, orders, records and proceedings; and the Privacy Act of 1974, 5 U.S.C. 552a, as amended.

Purpose(s):

The processing of access requests and administrative appeals under the FOIA, access and amendment requests and administrative appeals under the Privacy Act; for the purpose of participating in litigation regarding agency action on such requests and appeals; and for the purpose of assisting the SIGAR in carrying out any other responsibilities under the FOIA and the Privacy Act. Also used to produce statistical reports; and as a data source for management information.

Routine uses of records maintained in the system, including categories of users and the purpose of such uses:

In addition to those disclosures generally permitted under 5 U.S.C. 552a(b) of the Privacy Act of 1974, these records contained therein may specifically be disclosed outside SIGAR as a routine use pursuant to 5 U.S.C. 552a(b)(3) as follows:

1. To another federal agency when consultation or referral is required to process requests.

2. For the purpose of an investigation, settlement of claims, or the preparation and conduct of litigation to (1) persons representing SIGAR in the investigation, settlement or litigation, and to individuals assisting in such representation; (2) others involved in the investigation, settlement, and litigation, and their representatives and individuals assisting those representatives; and (3) witness, potential witness, or their representatives and assistants, and any other person who possess information pertaining to the matter when it is necessary to obtain information or testimony relevant to the matter.

3. To the tribunals, counsel, other parties, witnesses, and the public (in publicly available pleadings, filings or discussion in open court) when such disclosure: (1) Is relevant to, and necessary for, the proceeding; (2) is compatible with the purpose for which SIGAR collected the records; and (3) the proceedings involve: SIGAR, current or former contractors of SIGAR, or other United States Government agencies and their components, or a current or former employee of SIGAR, current or former contractors of SIGAR, or other United States Government agencies and their components, who are acting in an official capacity, or in any individual capacity where SIGAR or other United States Government agency has agreed to represent the employee.

4. To SIGAR contractors in performance of their contracts, and their officers and employees who have a need for the record in the performance of their duties. Those provided information under this routine use are subject to the same limitations applicable to SIGAR officers and employees under the Privacy Act.

5. When (1) it is suspected or confirmed that the security or confidentiality of information in the system of records has been compromised; (2) SIGAR has determined that as a result of the suspected or confirmed compromise there is a risk of harm to economic or property interests, identity theft or fraud, or harm to the security integrity if this system or other systems or programs (whether maintained by SIGAR or another agency or entity) that rely upon the compromised information; and (3) the disclosure is made to such agencies, entities, and persons who are reasonably necessary to assist in connection with SIGAR's efforts to respond to the suspected or confirmed compromise and prevent, minimize, or remedy such harm.

Policies and practices for storing, retrieving, accessing, retaining, and disposing of records in the system:

Storage:

Records are stored as paper and/or electronic storage media.

Retrievability:

Records are retrieved by name of requester and/or assigned request control number.

Safeguards:

Paper records are maintained in locked cabinets and desks. Electronic records are controlled through established SIGAR computer center procedures (personnel screening and physical security), and they are password protected. Access is limited to those whose official duties require access to the records.

Retention and disposal:

Records in this system will be retained in accordance with a schedule to be submitted for approval by the National Archives and Records Administration (NARA) and other government-wide records schedules, as applicable.

System manager(s) and address:

Office of the Special Inspector General for Afghanistan Reconstruction, Director, Privacy, Records, and Disclosure, 2530 Crystal Drive, Arlington, VA 22202-3934.

Notification procedure:

Individuals seeking to determine whether information about themselves is contained in this system should address written inquiries to the Office of the Special Inspector General for Afghanistan Reconstruction, Headquarters, Director, Privacy, Records, and Disclosure, 2530 Crystal Drive, Arlington, VA 22202.

The request should include the requester's complete name, time period for which records are sought, and the office location(s) where the requester believes the records are located.

Record access procedures:

Individuals seeking access to information about themselves contained in this system should address written inquiries to the Office of the Special Inspector General for Afghanistan Reconstruction, Headquarters, Privacy Act Officer, 2530 Crystal Drive, Arlington, VA 22202.

The request should include the requestor's complete name, time period for which records are sought, and the office location(s) where the requestor believes the records are located.

Contesting record procedures:

Same as Notification Procedures above.

Record source categories:

Individuals requesting copies of records and individuals responsible for processing and/or making determination on requests.

Exemptions claimed for the system:

During the course of a FOIA/PA action, exempt materials from other systems of records may become part of the case records in this system of records. To the extent that copies of exempt records from those other systems of records are entered into these FOIA/PA case records, SIGAR hereby claims the same exemptions for the records as claimed in the original primary systems of records which they are a part.

Some records contained within this system of records are exempt from 5 U.S.C. 552a (c)(3), (c)(4), (d)(1), (d)(2), (d)(3), (d)(4), (e)(1), (e)(2), (e)(3), (e)(4)(G), (e)(4)(H), (e)(4)(I), (e)(5),(e)(8), (f), and (g) of the Privacy Act pursuant to 5 U.S.C. 552a (j)(2) and (k)(2). See 5 CFR part 9301. For additional information contact the System manager.

SIGAR-05

System Name:

Audit Records.

System location:

Headquarters, Special Inspector General for Afghanistan Reconstruction (SIGAR), 9th Floor, 1550 Crystal Drive, Arlington, VA 22202-4135, and in SIGAR field offices in Afghanistan.

Categories of Individuals covered by the system:

Auditors, certain administrative support staff, contractors of SIGAR, and certain subjects and/or witnesses referenced in SIGAR's audit activities.

Categories of records in the system:

Name of the auditor, support staff, contractors; audit reports; and working papers, which may include copies of correspondence, evidence, subpoenas, other documents collected and/or generated by the Audit Directorate during the course of official duties.

Authority for maintenance of the system:

Pub. L. No. 110-181, Sections 1229 and 842, National Defense Authorization Act for Fiscal Year 2008; 5 U.S.C. App. 3, Inspector General Act of 1978, as amended; and 5 U.S.C. § 301, Government Organization and Employees.

Purpose(s):

This system is maintained in order to act as a management information system for SIGAR audit projects and personnel and to assist in the accurate and timely conduct of audits.

Routine uses of records maintained in the system, including categories of users and the purposes of such uses:

In addition to those disclosures generally permitted under 5 U.S.C. 552a(b) of the Privacy Act of 1974, these records contained therein may specifically be disclosed outside SIGAR as a routine use pursuant to 5 U.S.C. 552a(b)(3) as follows:

1. To appropriate Federal, foreign, state, local, Tribal or other public authorities or self-regulatory organizations responsible for investigating or prosecuting the violation of, or for enforcing or implementing, a statute, rule, regulation, order, or license, where the disclosing agency becomes aware of an indication of a potential violation of civil or criminal law or regulation.

2. To the appropriate local, state, foreign or federal agency when records alone or in conjunction with other information, indicates a violation or potential violation of law whether civil, criminal, or regulatory in nature, and whether arising by general statute or particular program pursuant thereto.

3. For the purpose of an investigation, settlement of claims, or the preparation and conduct of litigation to (1) persons representing SIGAR in the investigation, settlement or litigation, and to individuals assisting in such representation; (2) others involved in the investigation, settlement, and litigation, and their representatives and individuals assisting those representatives; and (3) witness, potential witness, or their representatives and assistants, and any other person who possess information pertaining to the matter when it is necessary to obtain information or testimony relevant to the matter.

4. To the tribunals, counsel, other parties, witnesses, and the public (in publicly available pleadings, filings or discussion in open court) when such disclosure: (1) Is relevant to, and necessary for, the proceeding; (2) is compatible with the purpose for which SIGAR collected the records; and (3) the proceedings involve: (a) SIGAR, current or former contractors of SIGAR, or other United States Government agencies and their components, or (b) A current or former employee of SIGAR, current or former contractors of SIGAR, or other United States Government agencies and their components, who is acting in an official capacity or in any individual capacity where SIGAR or another United States Government agency has agreed to represent the employee.

5. To the appropriate foreign, state, local, tribal, or other public authority or self-regulatory organization for the purpose of (a) consulting as to the propriety of access to or amendment or correction of information obtained from that authority or organization, or (b) verifying the identity of an individual who has requested access to or amendment or correction of records.

6. To SIGAR contractors in performance of their contracts, and their officers and employees who have a need for the record in the performance of their duties. Those provided information under this routine use are subject to the same limitations applicable to SIGAR officers and employees under the Privacy Act.

7. To appropriate agencies, entities, and persons when (1) SIGAR suspects or has confirmed that the security or confidentiality of information in the system of records has been compromised; (2) SIGAR has determined that as a result of the suspected or confirmed compromise there is a risk of harm to economic or property interests, identity theft or fraud, or harm to the security or integrity of this system or other systems or programs (whether maintained by SIGAR or another agency or entity) that rely upon the compromised information; and (3) the disclosure made to such agencies, entities, and persons is reasonably necessary to assist in connection with SIGAR's efforts to respond to the suspected or confirmed compromise and prevent, minimize, or remedy such harm.

8. To any source, either private or governmental, to the extent necessary to elicit information relevant to a SIGAR audit or investigation.

9. In situations involving an imminent danger of death or physical injury, disclose relevant information to an individual or individuals who are in danger.

10. To persons engaged in conducting and reviewing internal and external peer reviews of SIGAR to ensure adequate internal safeguards and management procedures exist within any office that had received law enforcement authorization or to ensure auditing standards applicable to Government audits by the Comptroller General of the United States are applied and followed.

11. When (1) it is suspected or confirmed that the security or confidentiality of information in the system of records has been compromised; (2) the SIGAR has determined that as a result of the suspected or confirmed compromise there is a risk of harm to economic or property interests, identity theft or fraud, or harm to the security integrity if this system or other systems or programs (whether maintained by SIGAR or another agency or entity) that rely upon the compromised information; and (3) the disclosure is made to such agencies, entities, and persons who are reasonably necessary to assist in connection with SIGAR's efforts to respond to the suspected or confirmed compromise and prevent, minimize, or remedy such harm.

Policies and practices for storing, retrieving, accessing, retaining, and disposing of records in the system:

Storage:

Records in this system are stored on paper media and/or electronic storage media.

Retrievability:

By name of the auditor, support staff, contractors, or subject of the audit.

Safeguards:

All records are protected from unauthorized access through appropriate administrative, physical, and technical safeguards. Paper records are maintained in locked cabinets and desks. Electronic records are controlled through established SIGAR computer center procedures (personnel screening and physical security), and they are password protected. Access is limited to those whose official duties require access to the records.

Retention and disposal:

Records in this system will be retained in accordance with a schedule to be submitted for approval by the National Archives and Records Administration (NARA) and other government-wide records schedules, as applicable.

System manager(s) and address:

Assistant Inspector General for Audits, Special Inspector General for Afghanistan Reconstruction, 2530 Crystal Drive, Arlington, VA 22202-3934.

Notification procedure:

A request by an individual to determine if a system of records contains information about themselves should be directed to Director, Privacy, Records and Disclosure, Office of the Special Inspector General for Afghanistan Reconstruction, Headquarters, Privacy Act Officer, 2530 Crystal Drive, Arlington, VA 22202-3934.

The request should include the requester's complete name, time period for which records are sought, and the office location(s) where the requester believes the records are located.

Record access procedures:

Individuals seeking access to information about themselves contained in this system should address written inquiries to Director, Privacy, Records and Disclosure, Office of the Special Inspector General for Afghanistan Reconstruction, Headquarters, Privacy Act Officer, 2530 Crystal Drive, Arlington, VA 22202-3934.

The request should include the requester's complete name, time period for which records are sought, and the office location(s) where the requester believes the records are located.

Contesting record procedures:

In accordance with the SIGAR regulation implementing the Privacy Act, a request by an individual to determine if a system of records contains information about him/her should be directed to Director, Privacy, Records and Disclosure, Office of the Special Inspector General for Afghanistan Reconstruction, Headquarters, Privacy Act Officer, 2530 Crystal Drive, Arlington, VA 22202-3934. The request should include the requestor's complete name, time period for which records are sought, and the office locations(s) where the requestor believes the records are located.

Record access procedures:

Same as notification procedures above.

Contesting record procedures:

Same as Notification Procedures above. Records are generally kept at locations where the work is performed. In accordance with the SIGAR Privacy Act regulation, proper identification is required before a request is processed.

Record source categories:

Some records contained within this system of records are exempt from the requirement that the record source categories be disclosed pursuant to the provisions of 5 U.S.C. 522a(j)(2) and (k)(2).

Exemptions claimed for the system:

Some records contained within this system of records are exempt from 5 U.S.C. 552a(c)(3), (c)(4), (d)(1), (d)(2), (d)(3), (d)(4), (e)(1), (e)(2), (e)(3), (e)(4)(G), (e)(4)(H), (e)(4)(I), (e)(5), (e)(8), (f), and (g) of the Privacy Act pursuant to 5 U.S.C. 552a(j)(2) and (k)(2). See 5 CFR part 9301. For additional information contact the System manager.

SIGAR-06

System Name:

Correspondence Records.

System location:

Headquarters, Special Inspector General for Afghanistan Reconstruction, 9th Floor, 1550 Crystal Drive, Arlington, VA 22202-4135.

Categories of Individuals covered by the system:

Correspondents; and persons and entities upon whose behalf correspondence was initiated.

Categories of records in the system:

Correspondence received by SIGAR and responses generated thereto; and records used to respond to incoming correspondence, including information included in SIGAR's other systems of records.

Authority for maintenance of the system:

Pub. L. No. 110-181, Sections 1229 and 842, National Defense Authorization Act for Fiscal Year 2008; 5 U.S.C. App. 3, Inspector General Act of 1978, as amended; and 5 U.S.C. § 301, Government Organization and Employees.

Purpose(s):

This system consists of correspondence received by SIGAR from individuals and their representatives; Federal, foreign, state, local, tribal or other public authorities; entities subject to oversight by SIGAR; oversight committees; and others who conduct business with SIGAR and the responses thereto. It serves as a record of in-coming correspondence and the steps taken to respond.

Routine uses of records maintained in the system, including categories of users and the purposes of such uses:

In addition to those disclosures generally permitted under 5 U.S.C. 552a(b) of the Privacy Act of 1974, these records contained therein may specifically be disclosed outside SIGAR as a routine use pursuant to 5 U.S.C. 552a(b)(3) as follows:

1. To appropriate Federal, foreign, state, local, tribal or other public authorities or self-regulatory organizations responsible for investigating or prosecuting violations of, or for enforcing or implementing, a statute, rule, regulation, order, or license, where the disclosing agency becomes aware of an indication of a violation or potential violation of civil or criminal law or regulation.

2. To the appropriate local, state, foreign, or federal agency when records alone or in conjunction with other information, indicates a violation or potential violation of law whether civil, criminal, or regulatory in nature, and whether arising by general statute or particular program pursuant thereto.

3. For the purpose of an investigation, settlement of claims, or the preparation and conduct of litigation to (1) persons representing SIGAR in the investigation, settlement or litigation, and to individuals assisting in such representation; (2) others involved in the investigation, settlement, and litigation, and their representatives and individuals assisting those representatives; and (3) witness, potential witness, or their representatives and assistants, and any other person who possess information pertaining to the matter when it is necessary to obtain information or testimony relevant to the matter.

4. To the tribunals, counsel, other parties, witnesses, and the public (in publicly available pleadings, filings or discussion in open court) when such disclosure: (1) Is relevant to, and necessary for, the proceeding; (2) is compatible with the purpose for which SIGAR collected the records; and (3) the proceedings involve: (a) SIGAR, current or former contractors of SIGAR, or other United States Government agencies and their components, or (b) A current or former employee of SIGAR, current or former contractors of SIGAR, or other United States Government agencies and their components, who is acting in an official capacity or in any individual capacity where SIGAR or another United States Government agency has agreed to represent the employee.

5. To the appropriate foreign, state, local, Tribal, or other public authority or self-regulatory organization for the purpose of (a) consulting as to the propriety of access to or amendment or correction of information obtained from that authority or organization, or (b) verifying the identity of an individual who has requested access to or amendment or correction of records;

6. To SIGAR contractors in performance of their contracts, and their officers and employees who have a need for the record in the performance of their duties. Those provided information under this routine use are subject to the same limitations applicable to SIGAR officers and employees under the Privacy Act.

7. To appropriate agencies, entities, and persons when (1) SIGAR suspects or has confirmed that the security or confidentiality of information in the system of records has been compromised; (2) SIGAR has determined that as a result of the suspected or confirmed compromise there is a risk of harm to economic or property interests, identity theft or fraud, or harm to the security or integrity of this system or other systems or programs (whether maintained by SIGAR or another agency or entity) that rely upon the compromised information; and (3) the disclosure made to such agencies, entities, and persons is reasonably necessary to assist in connection with SIGAR's efforts to respond to the suspected or confirmed compromise and prevent, minimize, or remedy such harm.

8. To foreign governments or international organizations in accordance with treaties, international conventions, or agreements.

9. In situations involving an imminent danger of death or physical injury, a record from this system of records may be disclosed as a routine use to an individual or individuals who are in danger.

10. To any source, either private or governmental, to the extent necessary to elicit information relevant to a SIGAR audit or investigation.

11. To persons engaged in conducting and reviewing internal and external peer reviews of SIGAR to ensure adequate internal safeguards and management procedures exist within any office that had received law enforcement authorization or to ensure auditing standards applicable to government audits by the Comptroller General of the United States are applied and followed.

12. When (1) it is suspected or confirmed that the security or confidentiality of information in the system of records has been compromised; (2) the SIGAR has determined that as a result of the suspected or confirmed compromise there is a risk of harm to economic or property interests, identity theft or fraud, or harm to the security integrity if this system or other systems or programs (whether maintained by SIGAR or another agency or entity) that rely upon the compromised information; and (3) the disclosure is made to such agencies, entities, and persons who are reasonably necessary to assist in connection with SIGAR's efforts to respond to the suspected or confirmed compromise and prevent, minimize, or remedy such harm.

Policies and practices for storing, retrieving, accessing, retaining, and disposing of records in the system:

Storage:

Records in this system are stored on paper media and/or electronic storage media.

Retrievability:

By name, date, or subject matter.

Safeguards:

All records are protected from unauthorized access through appropriate administrative, physical, and technical safeguards. Paper records are maintained in locked cabinets and desks. Electronic records are controlled through established SIGAR computer center procedures (personnel screening and physical security), and they are password protected. Classified information is maintained in locked General Services Administration-approved Class 6 security containers. Access is limited to those whose official duties require access to the records.

Retention and disposal:

Records in this system will be retained in accordance with a schedule to be submitted for approval by the National Archives and Records Administration (NARA) and other government-wide records schedules, as applicable.

System manager(s) and address:

Assistant Inspector General for Management and Support, Special Inspector General for Afghanistan Reconstruction, 2530 Crystal Drive, Arlington, VA 22202-3934.

Notification procedure:

A request by an individual to determine if a system of records contains information about themselves should be directed to the Director, Privacy, Records and Disclosure, Special Inspector General for Afghanistan Reconstruction, Headquarters, 2530 Crystal Drive, Arlington, VA 22202-3934.

The request should include the requester's complete name, time period for which records are sought, and the office location(s) where the requester believes the records are located.

Record access procedures:

Individuals seeking access to information about themselves contained in this system should address written inquiries to the Director, Privacy, Records and Disclosure, Special Inspector General for Afghanistan Reconstruction, Headquarters, 2530 Crystal Drive, Arlington, VA 22202-3934.

The request should include the requester's complete name, time period for which records are sought, and the office location(s) where the requester believes the records are located.

Contesting record procedures:

Same as notification procedures above.

Record source categories:

Some records contained within this system of records are exempt from the requirement that the record source categories be disclosed pursuant to the provisions of 5 U.S.C. 552a(j)(2) and (k)(2).

Exemptions claimed for the system:

Some records contained within this system of records are exempt from 5 U.S.C. 552a(c)(3), (c)(4), (d)(1), (d)(2), (d)(3), (d)(4), (e)(1), (e)(2), (e)(3), (e)(4)(G), (e)(4)(H), (e)(4)(I), (e)(5), (e)(8), (f), and (g) of the Privacy Act pursuant to 5 U.S.C. 552a(j)(2) and (k)(2). See 5 CFR part 9301. For additional information contact the system manager.

SIGAR-07

System Name:

SIGAR Hotline Records.

System location:

Headquarters, Special Inspector General for Afghanistan Reconstruction, 9th Floor, 1550 Crystal Drive, Arlington, VA 22202-4135, and in SIGAR field offices in Afghanistan.

Categories of individuals covered in the system:

Individuals who are the subjects of inquiries concerning allegations of complaints, who have pertinent knowledge about the inquiry, including SIGAR employees, and individuals authorized to furnish information; confidential informants, complainants, SIGAR Hotline personnel, and other individuals involved in these inquiries.

Categories of records in the system:

Name of individual or entity involved, case number, report title; records resulting from the referral of, and inquiry into, Hotline complaints, such as the date of the complaint; the Hotline control number; the name of the complainant; the actual allegations; referral documents to SIGAR components requesting investigation into SIGAR Hotline complaints; referral documents from SIGAR components transmitting the SIGAR Hotline Completion Report, which normally contains the name of the examining official(s) assigned to the case; background information regarding the investigation itself, such as the scope of the investigation, relevant facts discovered, information received from witnesses, and specific source documents reviewed; the investigator's findings, conclusions, and recommendations; and the disposition of the case; and internal SIGAR Hotline forms documenting review and analysis of SIGAR Hotline Completion Reports received from SIGAR components.

Authority for maintenance of the system:

Pub. L. No. 110-181, Sections 1229 and 842, National Defense Authorization Act for Fiscal Year 2008; 5 U.S.C. App. 3, Inspector General Act of 1978, as amended; and 5 U.S.C. § 301, Government Organization and Employees.

Purpose(s):

These responsibilities include conducting and supervising investigations relating to programs and operations relating to the expenditure of appropriated funds and funds otherwise made available for the reconstruction of Afghanistan, promoting the economy, efficiency, and effectiveness in the administration of such programs and operations, and preventing and detecting fraud, waste and abuse in such programs and operations. The records are used in investigations of individuals and entities suspected of having committed illegal or unethical acts. The records are also used in any resulting criminal prosecutions, civil proceedings, or administrative actions.

Routine uses of records maintained in the system, including categories of users and the purposes of such uses:

In addition to those disclosures generally permitted under 5 U.S.C. 552a(b) of the Privacy Act of 1974, these records contained therein may specifically be disclosed outside SIGAR as a routine use pursuant to 5 U.S.C. 552a(b)(3) as follows:

1. To appropriate Federal, foreign, state, local, tribal or other public authorities or self-regulatory organizations responsible for investigating or prosecuting violations of, or for enforcing or implementing, a statute, rule, regulation, order, or license, where the disclosing agency becomes aware of an indication of a violation or potential violation of civil or criminal law or regulation.

2. To the appropriate local, state, foreign or federal agency when records alone or in conjunction with other information, indicates a violation or potential violation of law whether civil, criminal, or regulatory in nature, and whether arising by general statute or particular program pursuant thereto.

3. For the purpose of an investigation, settlement of claims, or the preparation and conduct of litigation to (1) persons representing SIGAR in the investigation, settlement or litigation, and to individuals assisting in such representation; (2) others involved in the investigation, settlement, and litigation, and their representatives and individuals assisting those representatives; (3) witnesses, potential witnesses, or their representatives and assistants, and any other person who possesses information pertaining to the matter, when it is necessary to obtain information or testimony relevant to the matter.

4. To the tribunals, counsel, other parties, witnesses, and the public (in publicly available pleadings, filings or discussion in open court) when such disclosure: (1) Is relevant to, and necessary for, the proceeding; (2) is compatible with the purpose for which SIGAR collected the records; and (3) the proceedings involve: (a) SIGAR, current or former contractors of SIGAR, or other United States Government agencies and their components, or (b) A current or former employee of SIGAR, current or former contractors of SIGAR, or other United States Government agencies and their components, who is acting in an official capacity or in any individual capacity where SIGAR or another United States Government agency has agreed to represent the employee.

5. To a federal agency, in response to its written request, to facilitate the requesting agency's decision concerning the hiring or retention of an employee, the issuance of a security clearance, the reporting of an investigation of an employee, the letting of a contract, or the issuance of a license, grant or other benefit, to the extent that the information is relevant and necessary to the requesting agency's decision on the matter. SIGAR must deem such disclosure to be compatible with the purpose for which it collected the information.

6. To foreign governments or international organizations in accordance with treaties, international conventions, or agreements.

7. To SIGAR contractors in performance of their contracts, and their officers and employees who have a need for the record in the performance of their duties. Those provided information under this routine use are subject to the same limitations applicable to SIGAR officers and employees under the Privacy Act.

8. When (1) it is suspected or confirmed that the security or confidentiality of information in the system of records has been compromised; (2) SIGAR has determined that as a result of the suspected or confirmed compromise there is a risk of harm to economic or property interests, identity theft or fraud, or harm to the security integrity if this system or other systems or programs (whether maintained by SIGAR or another agency or entity) that rely upon the compromised information; and (3) the disclosure is made to such agencies, entities, and persons who are reasonably necessary to assist in connection with SIGAR's efforts to respond to the suspected or confirmed compromise and prevent, minimize, or remedy such harm.

9. In situations involving an imminent danger of death or physical injury, a record from this system of records may be disclosed as a routine use to an individual or individuals who are in danger.

10. To any source, either private or governmental, to the extent necessary to elicit information relevant to a SIGAR audit or investigation.

11. To persons engaged in conducting and reviewing internal and external peer reviews of SIGAR to ensure adequate internal safeguards and management procedures exist within any office that had received law enforcement authorization or to ensure auditing standards applicable to government audits by the Comptroller General of the United States are applied and followed.

Policies and practices for storing, retrieving, accessing, retaining, and disposing of records in the system:

Storage:

Records in this system are stored on paper media and/or electronic storage media.

Retrievability:

Records may be retrieved by name of individual or entity involved, case number, report title, or subject matter.

Safeguards:

All records are protected from unauthorized access through appropriate administrative, physical, and technical safeguards. Paper records are maintained in locked cabinets and desks. Electronic records are controlled through established SIGAR computer center procedures (personnel screening and physical security), and they are password protected.

Retention and disposal:

Records in this system will be retained in accordance with a schedule to be submitted for approval by the National Archives and Records Administration (NARA) and other government-wide records schedules, as applicable.

System manager(s) and address:

Director, SIGAR Hotline, Office of the Special Inspector General for Afghanistan Reconstruction, 2530 Crystal Drive, Arlington, VA 22202-3934.

Notification procedures:

A request by an individual to determine if a system of records contains information about themselves should be directed to Director, Privacy, Records and Disclosure, Office of the Special Inspector General for Afghanistan Reconstruction, Headquarters, Privacy Act Officer, 2530 Crystal Drive, Arlington, VA 22202-3934.

The request should include the requester's complete name, time period for which records are sought, and the office location(s) where the requester believes the records are located.

Record access procedures:

Individuals seeking access to information about themselves contained in this system should address written inquiries to Director, Privacy, Records and Disclosure, Office of the Special Inspector General for Afghanistan Reconstruction, Headquarters, Privacy Act Officer, 2530 Crystal Drive, Arlington, VA 22202-3934.

The request should include the requester's complete name, time period for which records are sought, and the office location(s) where the requester believes the records are located.

Contesting record procedures:

Same as Notification Procedures above.

Contesting record procedures:

Same as Notification Procedures above.

Record source categories:

Subject individuals; individuals and organizations that have pertinent knowledge about a subject individual or corporate entity; those authorized by an individual to furnish information; confidential informants; and Federal Bureau of Investigation (FBI) and other Federal, foreign, state, and local entities.

Exemptions claimed for the system:

Some records contained within this system of records are exempt from 5 U.S.C. 552a(c)(3), (c)(4), (d)(1), (d)(2), (d)(3), (d)(4), (e)(1), (e)(2), (e)(3), (e)(4)(G), (e)(4)(H), (e)(4)(I), (e)(5), (e)(8), (f), and (g) of the Privacy Act pursuant to 5 U.S.C. 552a(j)(2) and (k)(2). See 5 CFR part 9301. For additional information contact the System manager.

SIGAR-08

System name:

Investigation Records.

System location:

Headquarters, Special Inspector General for Afghanistan Reconstruction (SIGAR), 9th Floor, 1550 Crystal Drive, Arlington, VA 22202 and at SIGAR field offices in Afghanistan.

Categories of individuals covered by the system:

Individuals filing complaints of criminal, civil, or administrative violations, including fraud, waste or mismanagement; individuals alleged to have been involved in such violations; individuals identified as having been adversely affected by matters investigated by SIGAR; individuals who have been identified as possibly relevant to, or who are contacted as part of, a SIGAR investigation, including: (1) current and former employees of the Departments of Defense and State and the Agency for International Development, other Federal agencies, and federal contractors, grantees, and persons whose associations with current and former employees relate to alleged violations under investigation; and, (2) witnesses, complainants, confidential informants, suspects, defendants, respondents to SIGAR or other subpoenas, or parties who have been identified by SIGAR, other agencies, or members of the general public in connection with authorized SIGAR functions; and SIGAR employees performing investigative functions.

Categories of records in the system:

Name of subject(s), case number, title of investigative report, name of complainant, Social Security Number (SSN), and/or names of witnesses, letters, memoranda, and other documents citing complaints of alleged criminal or administrative misconduct.

Investigative files: (1) reports of investigation resulting from allegations of misconduct or violations of law with related exhibits, statements, affidavits, records or other pertinent documents (including those obtained from other sources, such as Federal, state, local, or foreign investigative or law enforcement agencies and other government agencies) obtained during investigations; (2) transcripts and documentation concerning requests and approval for consensual (telephone and non-telephone) monitoring; (3) reports from or to other law enforcement bodies; (4) prior criminal or noncriminal records of individuals as they relate to investigations; (5) subpoenas issued pursuant to SIGAR investigations, documents or other evidence produced to SIGAR, and legal opinions, advice, and other legal documents prepared by SIGAR or other agency counsel; (6) reports of actions taken by management personnel regarding misconduct allegations and reports of legal actions, including actions resulting from violations of statutes referred to the United States Department of Justice for prosecution; (7) records involving the disposition of investigations and resulting agency actions (e.g., criminal prosecutions, civil proceedings, administrative action); and (8) other documentation and materials created during the course of or arising out of SIGAR investigations; and records containing the name and/or other personal identifying information for SIGAR employees; names and other personal identifying information for individuals who are investigated or involved as complainants, witnesses, informants, or otherwise in SIGAR investigations; and details relating to investigations and complaints, such as the date of the complaint; case number(s); name of the complainant; matters alleged; referral documents; research materials; and other documentation.

Authority for maintenance of the system:

Pub. L. No. 110-181, Sections 1229 and 842, National Defense Authorization Act for Fiscal Year 2008; 5 U.S.C. App. 3, Inspector General Act of 1978, as amended; 5 U.S.C. § 301, Government Organization and Employees; and E.O. 9397 (SSN), as amended.

Purpose(s):

These records are used for conducting and supervising investigations relating to programs and operations regarding the expenditure of appropriated funds and funds otherwise made available for the reconstruction of Afghanistan, promoting the economy, efficiency, and effectiveness in the administration of such programs and operations, and preventing and detecting fraud, waste and abuse. The records are used in investigations of individuals and entities suspected of having committed illegal or unethical acts. The records are also used in any resulting criminal prosecutions, civil proceedings, or administrative actions.

Routine uses of records maintained in the system, including categories of users and the purposes of such uses:

In addition to those disclosures generally permitted under 5 U.S.C. 552a(b) of the Privacy Act of 1974, these records contained therein may specifically be disclosed outside SIGAR as a routine use pursuant to 5 U.S.C. 552a(b)(3) as follows:

1. To appropriate Federal, foreign, state, local, tribal or other public authorities or self-regulatory organizations responsible for investigating or prosecuting violations of, or for enforcing or implementing, a statute, rule, regulation, order, or license, where the disclosing agency becomes aware of an indication of a violation or potential violation of civil or criminal law or regulation.

2. For the purpose of an investigation, settlement of claims, or the preparation and conduct of litigation to (1) persons representing SIGAR in the investigation, settlement or litigation, and to individuals assisting in such representation; (2) others involved in the investigation, settlement, and litigation, and their representatives and individuals assisting those representatives; and (3) witness, potential witness, or their representatives and assistants, and any other person who possess information pertaining to the matter when it is necessary to obtain information or testimony relevant to the matter.

3. To the tribunals, counsel, other parties, witnesses, and the public (in publicly available pleadings, filings or discussion in open court) when such disclosure: (1) Is relevant to, and necessary for, the proceeding; (2) is compatible with the purpose for which SIGAR collected the records; and (3) the proceedings involve: (a) SIGAR, current or former contractors of SIGAR, or other United States Government agencies and their components, or (b) A current or former employee of SIGAR, current or former contractors of SIGAR, or other United States Government agencies and their components, who is acting in an official capacity or in any individual capacity where SIGAR or another United States Government agency has agreed to represent the employee.

4. To a federal agency, in response to its written request, to facilitate the requesting agency's decision concerning the hiring or retention of an employee, the issuance of a security clearance, the reporting of an investigation of an employee, the letting of a contract, or the issuance of a license, grant or other benefit, to the extent that the information is relevant and necessary to the requesting agency's decision on the matter. SIGAR must deem such disclosure to be compatible with the purpose for which the Office collected the information.

5. To foreign governments or international organizations in accordance with treaties, international conventions, or agreements.

6. To SIGAR contractors in performance of their contracts, and their officers and employees who have a need for the record in the performance of their duties. Those provided information under this routine use are subject to the same limitations applicable to SIGAR officers and employees under the Privacy Act.

7. To persons engaged in conducting and reviewing internal and external peer reviews of SIGAR to ensure adequate internal safeguards and management procedures exist within any office that had received law enforcement authorization or to ensure auditing standards applicable to government audits by the Comptroller General of the United States are applied and followed.

8. When (1) it is suspected or confirmed that the security or confidentiality of information in the system of records has been compromised; (2) SIGAR has determined that as a result of the suspected or confirmed compromise there is a risk of harm to economic or property interests, identity theft or fraud, or harm to the security integrity if this system or other systems or programs (whether maintained by SIGAR or another agency or entity) that rely upon the compromised information; and (3) the disclosure is made to such agencies, entities, and persons who are reasonably necessary to assist in connection with SIGAR's efforts to respond to the suspected or confirmed compromise and prevent, minimize, or remedy such harm.

Policies and practices for storing, retrieving, accessing, retaining and disposing of records in the system:

Storage:

Records in this system are stored on paper media and/or electronic storage media.

Retrievability:

Records are retrieved by name of subject(s), case number, title of investigative report, name of complainant, Social Security Number (SSN), and/or names of witnesses.

Safeguards:

All records are protected from unauthorized access through appropriate administrative, physical, and technical safeguards. Paper records are maintained in locked cabinets and desks. Electronic records are controlled through established SIGAR computer center procedures (personnel screening and physical security), and they are password protected. Access is limited to those whose official duties require access to the records.

Retention and disposal:

Records in this system will be retained in accordance with a schedule to be submitted for approval by the National Archives and Records Administration (NARA) and other government-wide records schedules, as applicable.

System manager(s) and address:

Assistant Inspector General for Investigations, 2530 Crystal Drive, Arlington, VA 22202-3934.

Notification procedures:

A request by an individual to determine if a system of records contains information about themselves should be directed to the Director, Privacy, Records and Disclosure, Office of the Special Inspector General for Afghanistan Reconstruction, 2530 Crystal Drive, Arlington, VA 22202-3934. The request should include the requestor's complete name, time period for which records are sought, and the office location(s) where the requestor believes the records are located.

Record access procedures:

A request by an individual to determine if a system of records contains information about themselves should be directed to the Director, Privacy, Records and Disclosure, Office of the Special Inspector General for Afghanistan Reconstruction, 2530 Crystal Drive, Arlington, VA 22202-3934. The request should include the requestor's complete name, time period for which records are sought, and the office location(s) where the requestor believes the records are located.

Contesting record procedures:

Same as Notification Procedures above.

Record source categories:

Subject individuals; individuals and organizations that have pertinent knowledge about the subject; those authorized by the individual to furnish information; confidential informants; the Department of Justice; Federal Bureau of Investigation (FBI); other Federal, state, and local agencies; and foreign government agencies.

Exemptions claimed for the system:

Some records contained within this system of records are exempt from 5 U.S.C. 552a (c)(3), (c)(4), (d)(1), (d)(2), (d)(3), (d)(4), (e)(1), (e)(2), (e)(3), (e)(4)(G), (e)(4)(H), (e)(4)(I), (e)(5), (e)(8), (f), and (g) of the Privacy Act pursuant to 5 U.S.C. 552a (j)(2) and (k)(2). See 5 CFR part 9301. For additional information contact the System manager.

SIGAR-09

System name:

SIGAR Legal Records.

System location:

Records are maintained at Headquarters, Special Inspector General for Afghanistan Reconstruction (SIGAR), 1550 Crystal Drive, 9th Floor, Arlington, VA 22202-4135.

Categories of individuals covered by the system:

All persons identified in files maintained by the Office of General Counsel, which includes attorneys, including: Litigants and other claimants against SIGAR and its contractors asserting matters including, personal injury, property damage or infringement, contract violation and harms resulting from employer-employee relationships; persons who are the subjects of claims by SIGAR, such as persons who may have violated criminal laws, agency regulations and contracts with SIGAR and persons against whom SIGAR considered asserting such claims; SIGAR's contractors and potential contractors; SIGAR employees, subject to garnishment or assignments; and SIGAR employees and contractors who use Alternate Dispute Resolution (ADR).

Categories of records in the system:

Records concerning legal matters include, (1) litigation and all other claims against, and by, SIGAR and its contractors, which have been assigned to the Office of General Counsel; (2) SIGAR contracts; and (3) records pertaining to ADR. Litigation and claim records may, among others, include correspondence, pleadings such as complaints, answers counterclaims and motions; depositions, court orders and briefs. Records in this system may include documents such as accident reports, inspection reports, investigation reports, audit reports, personnel files, contracts, consultant agreements, reports pertaining to criminal matters of interest to SIGAR, Personnel Security Review Board documents, medical records, photographs, telephone records, correspondence, memoranda and other related documents. Records may contain names, addresses, social security numbers and other personally identifiable information.

Authority for maintenance of the system:

Pub. L. No. 110-181, Sections 1229 and 842, National Defense Authorization Act for Fiscal Year 2008; 5 U.S.C. App. 3, Inspector General Act of 1978, as amended; and 5 U.S.C. 301, Government Organization and Employees.

Purpose:

To assist SIGAR attorneys in providing legal advice to the agency on a wide variety of legal issues; to collect the information of any individual who is, or will be, in litigation with the agency, as well as the attorneys representing the plaintiff(s) and defendant(s) response to claims of employees, former employees, or other individuals; to assist in the settlement of claims against the government; and to represent SIGAR in litigation.

Routine uses of records maintained in the system, including categories of users and the purposes of such uses:

1. To appropriate Federal, foreign, state, local, tribal or other public authorities or self-regulatory organizations responsible for investigating or prosecuting violations of, or for enforcing or implementing, a statute, rule, regulation, order, or license, where the disclosing agency becomes aware of an indication of a violation or potential violation of civil or criminal law or regulation.

2. For the purpose of an investigation, settlement of claims, or the preparation and conduct of litigation to: (1) A person representing SIGAR in the investigation, settlement or litigation, and to individuals assisting in such representation; (2) others involved in the investigation, settlement, and litigation, and their representatives and individuals assisting those representatives; (3) a witness, potential witness, or their representatives and assistants, and any other person who possesses information pertaining to the matter, when it is necessary to obtain information or testimony relevant to the matter.

3. To the tribunals, counsel, other parties, witnesses, and the public (in publicly available pleadings, filings or discussion in open court) when such disclosure: (1) Is relevant to, and necessary for, the proceeding; (2) is compatible with the purpose for which SIGAR collected the records; and (3) the proceedings involve: (a) SIGAR, current or former contractors of SIGAR, or other United States Government agencies and their components, or (b) A current or former employee of SIGAR, current or former contractors of SIGAR, or other United States Government agencies and their components, who is acting in an official capacity or in any individual capacity where SIGAR or another United States Government agency has agreed to represent the employee.

4. To a federal, foreign, state, tribal, or local agency to obtain information relevant to a SIGAR decision concerning the hiring or retention of an employee, the issuance of a security clearance, the letting of a contract, or the issuance of a license, grant, or other benefit. SIGAR must deem such disclosure to be compatible with the purpose for which SIGAR collected the information.

5. To facilitate the requesting agency's decision concerning the hiring or retention of an employee, the issuance of a security clearance, the reporting of an investigation of an employee, the letting of a contract, or the issuance of a license, grant, or other benefit, to the extent that the information is relevant and necessary to the requesting agency's decision on the matter. SIGAR must deem such disclosure to be compatible with the purpose for which SIGAR collected the information.

6. To foreign governments or international organizations in accordance with treaties, international conventions, or agreements.

7. To SIGAR contractors in performance of their contracts, and their officers and employees who have a need for the record in the performance of their duties. Those provided information under this routine use are subject to the same limitations applicable to SIGAR officers and employees under the Privacy Act.

8. When (1) it is suspected or confirmed that the security or confidentiality of information in the system of records has been compromised; (2) SIGAR has determined that as a result of the suspected or confirmed compromise there is a risk of harm to economic or property interests, identity theft or fraud, or harm to the security integrity if this system or other systems or programs (whether maintained by SIGAR or another agency or entity) that rely upon the compromised information; and (3) the disclosure is made to such agencies, entities, and persons who are reasonably necessary to assist in connection with SIGAR's efforts to respond to the suspected or confirmed compromise and prevent, minimize, or remedy such harm.

Policies and practices for storing, retrieving, accessing, retaining, and disposing of records in the system:

Storage:

Records may be stored as paper records and/or electronic media.

Retrievability:

Records are retrieved by name, case name, claim name, or assigned identifying number.

Safeguards:

All records are protected from unauthorized access through appropriate administrative, physical, and technical safeguards. Paper records are maintained in locked cabinets and desks. Electronic records are controlled through established SIGAR computer center procedures (personnel screening and physical security), and they are password protected.

Retention and disposal:

Records in this system will be retained in accordance with a schedule to be submitted for approval by the National Archives and Records Administration (NARA) and other government-wide records schedules, as applicable.

System manager(s) and address:

General Counsel, Office of General Counsel, Office of the Special Inspector General for Afghanistan Reconstruction, 2530 Crystal Drive, Arlington, VA 22202-3934.

Notification procedures:

A request by an individual to determine if a system of records contains information about themselves should be directed to Headquarters, Special Inspector General for Afghanistan Reconstruction (SIGAR), 2530 Crystal Drive, Arlington, VA 22202-3934.

The request should include the requester's complete name, time period for which records are sought, and the office location(s) where the requester believes the records are located.

Record access procedures:

Individuals seeking access to information about themselves contained in this system should address written inquiries to Headquarters, Special Inspector General for Afghanistan Reconstruction (SIGAR), 2530 Crystal Drive, Arlington, VA 22202-3934.

The request should include the requester's complete name, time period for which records are sought, and the office location(s) where the requester believes the records are located.

Contesting record procedures:

Same as Notification Procedures above.

Record source categories:

Subject individuals, inspection reports, other agencies, Office of General Counsel attorneys, other agency officers and staff, contractors, investigators, and auditors.

Exemptions claimed for the system:

Some records contained within this system of records are exempt from 5 U.S.C. 552a(c)(3), (c)(4), (d)(1), (d)(2), (d)(3), (d)(4), (e)(1), (e)(2), (e)(3), (e)(4)(G), (e)(4)(H), (e)(4)(I), (e)(5), (e)(8), (f), and (g) of the Privacy Act pursuant to 5 U.S.C. 552a (j)(2) and (k)(2). See 5 CFR part 9301. For additional information contact the System manager.

SIGAR-10

System name:

Legislative Inquiries and Correspondence.

System location:

Headquarters, Special Inspector General for Afghanistan Reconstruction (SIGAR), 2530 Crystal Drive, Arlington, VA 22202-3934 and in SIGAR field offices in Afghanistan.

Categories of individuals covered by the system:

Individuals who have requested assistance from their Congressional Representative(s), and the member of Congress who corresponded with SIGAR.

Categories of records in the system:

Name and address of constituent, date of letter by a member of Congress on behalf of the constituent; name of member of Congress, materials forwarded by a member of Congress; and SIGAR response.

Authority for maintenance of the system:

Sections 1229 and 842, National Defense Authorization Act for Fiscal Year 2008, Pub. L. No. 110-181; Inspector General Act of 1978, as amended; 5 U.S.C. App. 3; and 5 U.S.C. 301, Government Organization and Employees.

Purpose:

Maintained and used by SIGAR to record legislative inquiries on behalf of constituents and legislative inquiries from a member or committee, to ensure proper document control of the response, and to record the agency's responses to such inquiries.

Routine uses of records maintained in the system, including categories of users and the purposes of such uses:

In addition to those disclosures generally permitted under 5 U.S.C. 552a(b) of the Privacy Act of 1974, these records contained therein may specifically be disclosed outside SIGAR as a routine use pursuant to 5 U.S.C. 552a(b)(3) as follows:

1. To another federal agency when consultation or referral is required to process requests.

2. To appropriate Federal, foreign, state, local, tribal or other public authorities or self-regulatory organizations responsible for investigating or prosecuting violations of, or for enforcing or implementing, a statute, rule, regulation, order, or license, where the disclosing agency becomes aware of an indication of a violation or potential violation of civil or criminal law or regulation.

3. For the purpose of an investigation, settlement of claims, or the preparation and conduct of litigation to (1) persons representing the agency in the investigation, settlement or litigation, and to individuals assisting in such representation; (2) others involved in the investigation, settlement, and litigation, and their representatives and individuals assisting those representatives; (3) witnesses, potential witnesses, or their representatives and assistants, and any other person who possesses information pertaining to the matter, when it is necessary to obtain information or testimony relevant to the matter.

4. To the tribunals, counsel, other parties, witnesses, and the public (in publicly available pleadings, filings or discussion in open court) when such disclosure: (1) Is relevant to, and necessary for, the proceeding; (2) is compatible with the purpose for which SIGAR collected the records; and (3) the proceedings involve: (a) SIGAR, current or former contractors of SIGAR, or other United States Government agencies and their components, or (b) A current or former employee of SIGAR, current or former contractors of SIGAR, or other United States Government agencies and their components, who is acting in an official capacity or in any individual capacity where SIGAR or another United States Government agency has agreed to represent the employee.

6. To agency contractors in performance of their contracts, and their officers and employees who have a need for the record in the performance of their duties. Those provided information under this routine use are subject to the same limitations applicable to agency officers and employees under the Privacy Act.

7. When (1) it is suspected or confirmed that the security or confidentiality of information in the system of records has been compromised; (2) SIGAR has determined that as a result of the suspected or confirmed compromise there is a risk of harm to economic or property interests, identity theft or fraud, or harm to the security integrity if this system or other systems or programs (whether maintained by SIGAR or another agency or entity) that rely upon the compromised information; and (3) the disclosure is made to such agencies, entities, and persons who are reasonably necessary to assist in connection with SIGAR's efforts to respond to the suspected or confirmed compromise and prevent, minimize, or remedy such harm.

Policies and practices for storing, retrieving, accessing, retaining, and disposing of records in the system:

Storage:

Paper records and electronic storage media.

Retrievability:

Records are retrieved by name of constituent, other person of interest, or name of member of Congress.

Safeguards:

All records are protected from unauthorized access through appropriate administrative, physical, and technical safeguards. Paper records are maintained in locked cabinets and desks. Electronic records are controlled through established SIGAR computer center procedures (personnel screening and physical security), and they are password protected. Classified information is maintained in locked General Services Administration-approved Class 6 security containers. Access is limited to those whose official duties require access to the records.

Retention and disposal:

Records in this system will be retained in accordance with a schedule to be submitted for approval by the National Archives and Records Administration (NARA) and other government-wide records schedules, as applicable.

System manager(s) and address:

Director, Public Affairs, Office of the Special Inspector General for Afghanistan Reconstruction, 2530 Crystal Drive, Arlington, VA 22202-3934.

Notification procedures:

Individuals seeking to determine whether information about themselves is contained in this system should address written inquiries to Director, Privacy, Records and Disclosure, Office of the Special Inspector General for Afghanistan Reconstruction, 2530 Crystal Drive, Arlington, VA 22202-3934.

The request should include the requestor's complete name, time period for which records are sought, and the office location(s) where the requestor believes the records are located.

Record access procedures:

Individuals seeking access to information about themselves contained in this system should address written inquiries to Director, Privacy, Records and Disclosure, Office of the Special Inspector General for Afghanistan Reconstruction, 2530 Crystal Drive, Arlington, VA 22202-3934.

The request should include the requestor's complete name, time period for which records are sought, and the office location(s) where the requestor believes the records are located.

Contesting record procedures:

Same as Notification Procedures above.

Record source categories:

Subject individual, member of Congress, and the author of the agency response.

Exemptions claimed for the system:

Some records contained within this system of records are exempt from 5 U.S.C. 552a (c)(3), (c)(4), (d)(1), (d)(2), (d)(3), (d)(4), (e)(1), (e)(2), (e)(3), (e)(4)(G), (e)(4)(H), (e)(4)(I), (e)(5), (e)(8), (f), and (g) of the Privacy Act pursuant to 5 U.S.C. 552a (j)(2) and (k)(2). See 5 CFR part 9301. For additional information contact the system manager.

[FR Doc. 2012-15459 Filed 6-26-12; 8:45 am]

BILLING CODE 3710-L9-P